NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed rule, 10 CFR parts 72 and 73, “Event Notification Requirements.”

3. The form number if applicable: Not applicable.

4. How often the collection is required: The information must be submitted following the occurrence of certain specified events. These events are infrequent and occur at unpredictable times. Following telephonic reports of some of these events, a followup written report must be submitted within 60 days of the initial telephonic report.

5. Who is required or asked to report: All specific licensees or general licensees who possess special nuclear material at fixed sites and in transit and plants in which special nuclear material is used.

6. An estimate of the number of responses: 212; 29 responses for part 72 and 183 responses for part 73.

7. The estimated number of annual respondents: 21 part 72 NRC licensees and 204 part 73 NRC licensees.

8. An estimate of the total number of hours needed annually to complete the requirement or request: 3,300; part 72—707 reporting hours for NRC licensees; part 73—2,592 reporting hours for NRC licensees, or an average of 24 hours per response for part 72 and 13 hours per response for part 73.

9. An indication of whether Section 3507(d), Public Law 104-13 applies: Not applicable.

10. Abstract: Part 72 establishes licensing requirements for the independent storage of spent nuclear fuel and high-level radioactive waste. It prescribes requirements both for specific licenses for independent spent fuel storage installations and for general licenses for storage of spent fuel at power reactor sites. Section 72.75 establishes reporting requirements for specific events and conditions, including both emergency notifications and non-emergency notifications, occurring at spent fuel storage installations. Some of the requirements are for information which must be submitted by telephone to NRC's Operations Center. Other requirements are for written followup reports. Section 72.216 specifies the applicability of the reporting requirements in 10 CFR 72.75. Part 73 establishes requirements for the physical protection of special nuclear material at fixed sites and in transit and of plants where special nuclear material is used. Section 73.71 establishes reporting requirements for safeguards events, including both initial telephone notification to the NRC Operations Center and written followup reports. Appendix G to part 73 defines the reportable safeguards.

Submit, by September 26, 2002, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F23, Rockville, MD 20852. The proposed rule indicated in “The title of the information collection” is or has been published in the Federal Register within several days of the publication date of this Federal Register Notice. The OMB clearance package and rule are available at the NRC worldwide web site: http://www.nrc.gov/public-involve/doc-comment/omb/index.html for 60 days after the signature date of this notice and are also available at the rule forum site, http://ruleforum.llnl.gov.

Comments and questions should be directed to the OMB reviewer by September 26, 2002: Bryon Allen, Office of Information and Regulatory Affairs (3150-0002 and -0132), NEOB-10202, Office of Management and Budget, Washington DC 20503.

Comments can also be submitted by telephone at (202) 395-3087.

The NRC Clearance Officer is Brenda Jo. Shelton, 301-415-7233.

Dated at Rockville, Maryland, this 20th day of August 2002.
For the Nuclear Regulatory Commission.
Brenda Jo. Shelton,
NRC Clearance Officer, Office of the Chief Information Officer.

[FR Doc. 02-21748 Filed 8-26-02; 8:45 am]

BILLING CODE 7590-01-P